OFFICE OF PERSONNEL MANAGEMENT

Proposed Collection; Comment Request; Review of a Reinstated Information Collection: OF-311

AGENCY: Office of Personnel Management.

ACTION: Notice.

SUMMARY: In accordance with the Paperwork Reduction Act of 1995 (Pub. Law 104-13, May 22, 1995), this notice announces that the Office of Personnel Management intends to submit to the Office of Management and Budget a request for clearance of an information collection, voluntary commercial garnishment application form (OF-311). The application is intended to be completed by the creditors of Federal employees. The application will facilitate the processing of a wide variety of commercial garnishment orders issued by various State and local jurisdictions. The application will provide information about commercial garnishment orders and will facilitate the processing of commercial garnishments by Federal agencies in a uniform manner that otherwise would not be possible.

OPM anticipates that approximately 100 Forms OF-311 will be completed annually for OPM employees. OPM estimates that each form takes approximately 10 minutes to complete. The annual estimated burden is 17 hours. OPM anticipates, however, that many other Federal agencies will also be suggesting that creditors complete the Form OF-311.

Comments are particularly invited on:

—Whether this collection of information is necessary for the proper performance of functions of the Office of Personnel Management, and whether it will have a practical utility;

—Whether our estimate of the public burden of this collection is accurate, and based on valid assumptions and methodology; and

—Ways in which we can minimize the burden of collection of information on those who are to respond, through use of the appropriate technological collection techniques or other forms of information technology.

For copies of this proposal, contact Mary Beth Smith-Toomey on (202) 606-8358, e-mail to mbtoomey@opm.gov, or by FAX at 202-418-3251. Please include your mailing address with your request.

DATES: Comments on this proposal should be received on or before September 10, 2001.

ADDRESSES: Send or deliver comments to:James S. Green, Associate General Counsel, Office of General Counsel, U.S. Office of Personnel Management, 1900 E Street, NW., Room 7553, Washington, DC 20415.

FOR FURTHER INFORMATION CONTACT: Jill Gerstenfield, Attorney, Office of the General Counsel, (202) 606-1700.

U.S. Office of Personnel Management.
Steven R. Cohen,
Acting Director.

[FR Doc. 01-17148 Filed 7-9-01; 8:45 am]

BILLING CODE 6325-48-P